DEPARTMENT OF HOMELAND SECURITY

Federal Emergency Management Agency

44 CFR Part 67

[Docket No. FEMA-B-1022]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 9, 2009.

ADDRESSES: The corresponding preliminary Flood Insurance Rate Map (FIRM) for the proposed BFEs for each community are available for inspection at the community's map repository. The respective addresses are listed in the table below.

You may submit comments, identified by Docket No. FEMA-B-1022, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Jefferson County, Alabama, and Incorporated Areas
Dry Creek | At the confluence with Fivemile Creek; 630 feet upstream of Navajo Trail NE | +720 | +722 | Unincorporated Areas of Jefferson County.
| Just upstream of Chalkville Mountain Road | None | +958
Griffin Brook | 800 feet upstream of Lakeshore Drive | +634 | +631 | Unincorporated Areas of Jefferson County.
| 90 feet upstream of Montgomery Highway | None | +788
Huckleberry Branch | 200 feet downstream of Tyler Rd | +516 | +514 | Unincorporated Areas of Jefferson County.
| 1,500 feet downstream Mountain Oaks Drive | +824 | +814
Little Shades Creek (Cahaba Basin) | 930 feet upstream of Loch Haven Drive | +431 | +432 | Unincorporated Areas of Jefferson County.
| At Pipe Line Road | +625 | +626
Little Shades Creek (Shades Creek) | Just downstream of Wenonah Oxmoor Rd | +515 | +514 | Unincorporated Areas of Jefferson County.
| 2.3 miles south of Alabama Highway 150 | +633 | +632
Patton Creek | 3,350 feet north of Alabama Highway 150 | +424 | +423 | Unincorporated Areas of Jefferson County.
| 310 feet south of West Ridge Dr | +534 | +533
Pinchgut Creek | 3,540 feet downstream Watterson Pkwy | +690 | +691 | Unincorporated Areas of Jefferson County.
| 1.96 miles upstream of Gadsden Hwy | +850 | +846
Turkey Creek | 0.7 miles downstream Old Bradford Rd | +566 | +565 | Unincorporated Areas of Jefferson County.
| 950 feet upstream Eagle Ridge Drive | +880 | +885
Unnamed Creek 10 | 515 feet downstream of Main St | +605 | +607 | Unincorporated Areas of Jefferson County.
| 90 feet downstream Houston Rd | +671 | +667
Unnamed Creek 11 | Just upstream of Center Point Rd | +627 | +626 | Unincorporated Areas of Jefferson County.
| 1,610 feet upstream of Green Crest Dr | +690 | +692
Unnamed Creek 9 | Just downstream of Pinson Heights Rd | +630 | +631 | Unincorporated Areas of Jefferson County.
| Just downstream of Alabama Highway 151 | +630 | +631
Valley Creek | 0.5 miles upstream of Power Plant Rd | None | +431 | Unincorporated Areas of Jefferson County.
| 0.5 miles downstream of Power Plant Rd | None | +440
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Jefferson County
Maps are available for inspection at 716 Richard Arrington, Jr. Blvd., N. Room 260, Birmingham, AL 35203.
Santa Cruz County, Arizona, and Incorporated Areas
Agua Fria Canyon | Approx. 340 feet upstream from confluence with Santa Cruz River | +3381 | +3384 | Unincorporated Areas of Santa Cruz County.
| Approx. 21,000 feet upstream from confluence with Teruno Canyon | None | +3700
Al Harrison Wash | Approx. 290 feet upstream from confluence with Potrero Creek | +3650 | +3652 | City of Nogales.
| Approx. 125 feet downstream of I-19 | None | +3684
Ephriam Canyon Wash | At the intersection with N Bejarano St | +3815 | +3816 | City of Nogales.
| Approx. 130 feet upstream from SR-189 | None | +4002
Falls Wash | Approx. 150 feet upstream from E Morley Ave | +3802 | +3806 | City of Nogales.
| Approx. 225 feet upstream from SR-82 | +3810 | +3816
Farosa Canyon | Approx. 500 feet downstream from Sycamore Lane | None | +4846 | Unincorporated Areas of Santa Cruz County.
| Approx. 110 feet upstream from Sycamore Lane | None | +4854
Harshaw Creek | Approx. 220 feet upstream from confluence with Sonoita Creek | +4075 | +4076 | Town of Patagonia.
| Approx. 125 feet upstream from Harshaw Ave | None | +4116
Josephine Canyon | Approx. 270 feet upstream from confluence with Santa Cruz River | +3281 | +3284 | Unincorporated Areas of Santa Cruz County.
| Approx. 9,465 feet upstream from confluence with Josephine Canyon Tributary 5 | +3647 | +3648
Lyle Canyon | Approx 3,000 feet North along river from Hilltop Lane | None | +4798 | Unincorporated Areas of Santa Cruz County.
| Approx. 1,400 feet West along river from Point Pleasant Lane | None | +4868
Nogales Wash | At confluence with Potrero Creek | +3612 | +3604 | Unincorporated Areas of Santa Cruz County.
| Nogales City Limits Northern Boundary | +3612 | +3656
Nogales Wash | Intersection of Nogales Wash and the Nogales City Limits Northern Boundary | +3656 | +3656 | City of Nogales.
| At International Border | +3873 | +3874
Peck Canyon | Approx. 650 feet upstream from confluence with Santa Cruz River | +3343 | +3344 | Unincorporated Areas of Santa Cruz County.
| Approx. 1,675 feet upstream from confluence with Ramanote Canyon | None | +3598
Potrero Creek | Intersection of Portrero Creek and the Nogales City Limits Western Boundary | +3743 | +3744 | Unincorporated Areas of Santa Cruz County.
| Approx. 9,850 feet upstream from W Meadow Hills Drive | None | +3806
Potrero Creek | Approx. 100 feet upstream from confluence with Santa Cruz River | +3465 | +3466 | City of Nogales.
| Intersection of Portrero Creek and the Nogales City Limits Western Boundary | +3743 | +3744
Puerto Canyon Wash | Approx. 350 feet downstream from Esplendito (road) | None | +3166 | Unincorporated Areas of Santa Cruz County.
| Approx. 1,575 feet upstream from Puerto Canyon Road | None | +3298
Redrock Canyon | Approx. 75 feet from confluence with Harshaw Creek | +4096 | +4094 | Town of Patagonia.
| Approx. 110 feet upstream from Redrock Drive | None | +4114
Santa Cruz River | Approx. 2,000 feet upstream from confluence with Sopori Wash | +3042 | +3040 | Unincorporated Areas of Santa Cruz County.
| Approx. 8,000 feet upstream from confluence with Maria Santisima del Carmen Wash | +3730 | +3732
Sonoita Creek | At confluence with Santa Cruz River | +3431 | +3430 | Unincorporated Areas of Santa Cruz County.
| Approx. 4,440 feet downstream from De La Sonoita (road) | +3559 | +3558
Sonoita Creek | Approx. 1,100 feet upstream from Blue Haven Rd | +4029 | +4028 | Town of Patagonia.
| Approx. 1,460 feet upstream from Cross Creed Rd | None | +4130
Sonoita Tributary A | Approx. 50 feet upstream from N Second Ave | +4061 | +4066 | Town of Patagonia.
| Approx. 380 feet upstream from E Pennsylvania Ave | +4079 | +4080
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Nogales
Maps are available for inspection at 2150 N. Congress Dr., No. 117, Nogales, AZ 85621.
Town of Patagonia
Maps are available for inspection at P.O. Box 767, 310 McKeown Ave, Patagonia, AZ 85624.
Unincorporated Areas of Santa Cruz County
Maps are available for inspection at 2150 N. Congress Dr., No. 117, Nogales, AZ 85621.
Madison County, Mississippi, and Incorporated Areas
Bear Creek | 9,400 feet upstream of Weiss Road | +266 | +266 | Unincorporated Areas of Madison County.
| 1,600 feet downstream of Reunion Parkway | +297 | +287
Beaver Creek | 400 feet upstream of U.S. HWY 51 | +317 | +316 | City of Ridgeland.
| 400 feet upstream of Planters Grove | +326 | +323
Brashear Creek | 1,800 feet downstream of Grandview Blvd | +332 | +328 | City of Madison, Unincorporated Areas of Madison County.
| 100 feet upstream of Highland Colony Parkway | +365 | +350
Panther Creek | 1,800 feet upstream of Stokes Road | +214 | +214 | Unincorporated Areas of Madison County.
| 5,000 feet downstream of Catlett Road | +235 | +240
Purple Creek | 2,000 feet downstream of U.S. HWY 51 | +317 | +314 | City of Ridgeland.
| 1,500 feet downstream of Interstate 55 | +326 | +332
Reunion Lake #1 | Entire shoreline of Reunion Lake #1 | None | +331 | Unincorporated Areas of Madison County.
Reunion Lake #2 | Entire shoreline of Reunion Lake #2 | None | +327 | Unincorporated Areas of Madison County.
School Creek | 500 feet upstream of Old Canton Road | +298 | +298 | City of Ridgeland.
| 1,100 feet downstream of Lake Harbour Drive | +313 | +309
School Creek Tributary 1 | 600 feet downstream of Lake Harbour Drive | None | +312 | City of Ridgeland.
| 700 feet upstream of Wendover Way | None | +328
School Creek Tributary 2 | 750 feet downstream of Camellia Lane | None | +325 | City of Ridgeland.
| 350 feet downstream of Camellia Lane | None | +328
Stream 0 | 200 feet upstream of Interstate 55 | +268 | +270 | Unincorporated Areas of Madison County.
| 200 feet downstream of Gluckstadt Road | +272 | +272
Stream Q | 1,800 feet upstream of Interstate 55 | +273 | +274 | Unincorporated Areas of Madison County.
| 800 feet upstream of Gluckstadt Road | +299 | +295
Stream R | 4,500 feet downstream of Dewees Road | +299 | +299 | Unincorporated Areas of Madison County.
| 1,100 feet downstream of Dewees Road | +304 | +304
White Oak Creek Tributary 1 | 250 feet upstream of Oakhurst Trail | None | +360 | City of Ridgeland.
| 600 feet downstream of Bridgewater Road | None | +375
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Madison
Maps are available for inspection at 525 Post Oak Road, Madison, MS 39110.
City of Ridgeland
Maps are available for inspection at 304 Highway 51, Ridgeland, MS 39157.
Unincorporated Areas of Madison County
Maps are available for inspection at 146 West Center Street, Canton, MS 39046.
Valencia County, New Mexico, and Incorporated Areas
Rancho Cielo Arroyo 3 | Intersection of the Belen Highline Canal and the Rancho Cielo Arroyo 3 | None | +4876 | Unincorporated Areas of Valencia County.
| Approximately at the Belen Highline Canal to approximately 7,900 feet upstream of Interstate 25 | None | +5018
Rancho Cielo Arroyo 3, Tributary #1 | Confluence of Rancho Cielo Arroyo 3 and Rancho Cielo Arroyo 3, Tributary #1 | None | +4840 | Unincorporated Areas of Valencia County.
| From the confluence with Rancho Cielo Arroyo 3 to approximately 2,260 feet upstream of the confluence with Rancho Cielo Arroyo 3 | None | +4987
Rancho Cielo Arroyo 5, Tributary #1 | Confluence of Rancho Cielo Arroyo 5 and Rancho Cielo Arroyo 5, Tributary #1 | None | +4931 | Unincorporated Areas of Valencia County.
| From the confluence with Rancho Cielo Arroyo 5 to approximately 5,370 feet upstream of the confluence with Rancho Cielo Arroyo 5 | None | +5056
Rancho Cielo Arroyo 6 | Intersection of Belen Highline Canal and Rancho Cielo Arroyo 6 | None | +4873 | Unincorporated Areas of Valencia County.
| Approximately at the Belen Highline Canal to approximately 31,900 feet upstream of Interstate 25 | None | +4873
Rancho Cielo Arroyo 8 | Intersection of Rancho Cielo Arroyo 8 and Belen Highline Canal | None | +4880 | Unincorporated Areas of Valencia County.
| From a point starting at the Belen Highline Canal to a point approximately 32,700 feet upstream of Interstate 25 | None | +5274
Rancho Cielo Arroyo 9 | Intersection of Rancho Cielo Arroyo 9 and Belen Highline Canal | None | +4877 | Unincorporated Areas of Valencia County.
| Approximately at the Belen Highline Canal 14,200 feet upstream of Interstate 25 | None | +5145
Rancho Cielo Arroyo 9, Tributary #1 | Confluence of Rancho Cielo Arroyo 9 and Rancho Cielo Arroyo 9, Tributary #1 | None | +5018 | Unincorporated Areas of Valencia County.
| From the confluence with Rancho Cielo Arroyo 9 to approximately 6,150 feet upstream of the confluence with Rancho Cielo Arroyo 9 | None | +5176
Rancho Cielo Arrroyo 5 | Intersection of Rancho Cielo Arroyo 5 and Belen Highline Canal | None | +4870 | Unincorporated Areas of Valencia County.
| Approximately at the Belen Highline Canal to approximately 16,700 feet upstream of Interstate 25 | None | +5056
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Valencia County
Maps are available for inspection at C/O Floodplain Administrator, 444 Los Luna Ave., Los Lunas, NM 87031.
Clinton County, Ohio, and Incorporated Areas
Lytle Creek | 500 feet upstream of Railroad | None | +1007 | City of Wilmington.
| 20 feet upstream of 4C Bicentennial Trail | None | +1020
Lytle Creek | 1,700 feet downstream of Nelson Avenue | None | +966 | Unincorporated Areas of Clinton County.
| 1,000 feet downstream of Nelson Avenue | None | +971
| 20 feet upstream of 4C Bicentennial Trail | None | +1020
| 800 feet upstream of 4C Bicentennial Trail | None | +1021
Mary's Fork | Starting just upstream of CSX Conrail | None | +1043 | Unincorporated Areas of Clinton County.
| Just downstream of Howard Street | None | +1046
Stonelick Creek | Approximately 1,600 feet downstream of State Highway 123 | None | +956 | Unincorporated Areas of Clinton County.
| Approximately 1,200 feet downstream of State Highway 123 | None | +957
Stonelick Creek | Approximately 3,400 feet downstream of Westboro Road | None | +971 | Village of Blanchester.
| Approximately 2,000 feet downstream of Westboro Road | None | +974
| Approximately 1,800 feet downstream of Westboro Road | None | +974
| Approximately 1,700 feet downstream of Westboro Road | None | +975
Wilson Creek | Approximately 1,800 feet downstream of Polk Road | None | +1036 | Unincorporated Areas of Clinton County.
| Approximately 1,200 feet upstream of Polk Road | None | +1039
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Wilmington
Maps are available for inspection at 69 N. South Street, Wilmington, OH 45177.
Unincorporated Areas of Clinton County
Maps are available for inspection at 1326 Fife Avenue, Wilmington, OH 45177.
Village of Blanchester
Maps are available for inspection at 318 E. Main Street, Blanchester, OH 45107.
Rogers County, Oklahoma, and Incorporated Areas
Elm Creek | Approximately 797 feet upstream of the confluence of Elm Creek and Tributary F | +634 | +633 | City of Owasso, Unincorporated Areas of Rogers County.
| Approximately 630 feet downstream of the confluence of Elm Creek and Tributary H | +643 | +647
Elm Creek | Approximately 1,590 feet downstream of the confluence of Pine Valley Tributary and Elm Creek | None | +623 | Unincorporated Areas of Rogers County, City of Owasso.
| Approximately 1,920 feet upstream of confluence of Lake Valley Tributary and Elm Creek | None | +685
Pine Valley Tributary | Approximately 165 feet upstream of the confluence of Elm Creek and Pine Valley Tributary | None | +626 | City of Owasso, Unincorporated Areas of Rogers County.
| Approximately 355 feet downstream of North 153rd East Avenue | None | +645
Pine Valley Tributary | At the confluence of Elm Creek and Pine Valley Tributary | None | +630 | Unincorporated Areas of Rogers County, City of Owasso.
| Approximately 83 feet upstream of East 96th Street North | None | +679
Tributary B | At North 145 East Avenue and Tributary B | None | +630 | Unincorporated Areas of Rogers County.
| Approximately 2,750 feet downstream from North 193th East Avenue | None | +750
Tributary F | At the confluence of Tributary F and Elm Creek | None | +632 | Unincorporated Areas of Rogers County.
| Approximately 133 feet downstream of North 161st East Avenue | None | +667
Tributary G | At the confluence of Elm Creek and Tributary G | None | +648 | Unincorporated Areas of Rogers County.
| Approximately 2,581 feet downstream of North 177th East Avenue | None | +686
Tributary G-1 | At the confluence of Tributary G and Tributary G-1 | None | +663 | Unincorporated Areas of Rogers County.
| Approximately 1,643 feet downstream of North 177th East Avenue | None | +688
Tributary H | At the confluence of Tributary H and Elm Creek | None | +647 | Unincorporated Areas of Rogers County.
| Approximately 158 feet upstream of East 116th Street North | None | +699
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Owasso
Maps are available for inspection at 301 W. 2nd Ave., Owasso, OK 74055.
Unincorporated Areas of Rogers County
Maps are available for inspection at 219 South Missouri Street, Claremore, OK 74017.
Wagoner County, Oklahoma, and Incorporated Areas
Arkansas River | Approximately 6,809 feet from U.S. 69 up stream to limit of detailed study | None | +516 | Unincorporated Areas of Wagoner County.
| Approximately 15,526 feet from U.S. 69 down stream to limit of detailed study | None | +523
Arkansas River (Corp of Engineers) | Approximately 10,354 feet from Highway 104 down stream to limit of detailed study | None | +551 | Unincorporated Areas of Wagoner County.
| Limit of detailed study at Tulsa County/Wagoner County Line | None | +582
East Coal Creek | Approximately 386 feet up stream from River Park Avenue | None | +561 | City of Wagoner.
| Approximately 213 feet upstream of Railroad Culvert | None | +570
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Wagoner
Maps are available for inspection at Office of County Commissioner, 306 E. Cherokee St., Wagoner, OK 74107.
Unincorporated Areas of Wagoner County
Maps are available for inspection at Office of County Commissioner, 306 E. Cherokee St., Wagoner, OK 74107.
Marathon County, Wyoming, and Incorporated Areas
Bull Junior Creek | At the mouth of the Wisconsin River | +1150 | +1147 | City of Mosinee.
| Approximately 450 feet downstream of Old U.S. Highway 51 | +1150 | +1149
Eau Claire River | At Brooks and Ross Dam | +1167 | +1168 | City of Schofield, City of Wausau.
| Approximately 1.1 miles upstream of Brooks and Ross Dam | +1171 | +1169
Wisconsin River | Just upstream of the Dam in the City of Mosinee | +1150 | +1147 | Unincorporated Areas of Marathon County, City of Mosinee, Village of Kronenwetter, Village of Rothschild.
| Just downstream of Rothschild Dam | +1160 | +1159
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Mosinee
Maps are available for inspection at City Hall, 225 Main Street, Mosinee, WI 54455.
City of Schofield
Maps are available for inspection at Public Works/Building Inspection Department, 200 Park Street, Schofield, WI 54476.
City of Wausau
Maps are available for inspection at Inspections Department, 407 Grant Street, Wausau, WI 54403.
Unincorporated Areas of Marathon County
Maps are available for inspection at Conservation, Planning and Zoning Office, 210 River Drive, Wausau, WI 54403.
Village of Kronenwetter
Maps are available for inspection at Village of Kronenwetter Municipal Center, 1582 Kronenwetter Drive, Kronenwetter, WI 54455.
Village of Rothschild
Maps are available for inspection at Village Hall, 211 Grand Avenue, Rothschild, WI 54470.

(Catalog of Federal Domestic Assistance No. 97.022, “Flood Insurance.”)

Dated: November 26, 2008.
Michael K. Buckley,
Acting Assistant Administrator, Mitigation Directorate, Department of Homeland Security, Federal Emergency Management Agency.

[FR Doc. E8-29068 Filed 12-8-08; 8:45 am]

BILLING CODE 9110-12-P